DEPARTMENT OF AGRICULTURE

Animal and Plant Health Inspection Service

[Docket No. APHIS-2017-0086]

Availability of an Environmental Assessment for Release of Aceria drabae for Biological Control of Hoary Cress

AGENCY: Animal and Plant Health Inspection Service, USDA.

ACTION: Notice of availability.

SUMMARY: We are advising the public that the Animal and Plant Health Inspection Service has prepared an environmental assessment relative to permitting the release of Aceria drabae for biological control of hoary cress in the continental United States. The environmental assessment considers the effects of, and alternatives to, the field release of a mite, Aceria drabae, into the contiguous United States for use as a biological control agent to reduce the severity of hoary cress infestations. We are making the environmental assessment available to the public for review and comment.

DATES: We will consider all comments that we receive on or before January 4, 2018.

ADDRESSES: You may submit comments by either of the following methods:

• Federal eRulemaking Portal: Go to http://www.regulations.gov/#!docketDetail;D=APHIS-2017-0086.

• Postal Mail/Commercial Delivery: Send your comment to Docket No. APHIS-2017-0086, Regulatory Analysis and Development, PPD, APHIS, Station 3A-03.8, 4700 River Road Unit 118, Riverdale, MD 20737-1238.

Supporting documents and any comments we receive on this docket may be viewed at http://www.regulations.gov/#!docketDetail;D=APHIS-2017-0086 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Colin D. Stewart, Assistant Director, Pests, Pathogens, and Biocontrol Permits, Permitting and Compliance Coordination, PPQ, APHIS, 4700 River Road Unit 133, Riverdale, MD 20737-1231; (301) 851-2237; email: Colin.Stewart@aphis.usda.gov.

SUPPLEMENTARY INFORMATION:

Hoary cress species (Lepidium draba, L. appelianum, and L. chalapense) are herbaceous, perennial plants that grow in a variety of habitat and soil types. The hoary cress complex of invasive weeds is native to the Balkans, the Caspian Sea region of southwestern Asia, and the Middle East, and is found throughout Europe. Hoary cress was introduced into the United States from Europe in the late 19th century either with ship ballast or contaminated alfalfa, grass, or grain. Since then, hoary cress has spread to all regions of the United States except the Southeast.

Hoary cress is a perennial weed that reproduces from seeds and a spreading root system. The root system consists of vertical and lateral roots from which rosettes and shoots arise. Hoary cress inhibits and diminishes recreational opportunities, directly impedes crop production, minimizes grazing potential of affected rangelands, degrades wildlife habitat and native plant communities, and restricts waterfowl use of wetlands and stream banks. As a result, farmers, ranchers, recreationists, sportsmen, hunters, and the general public are adversely affected by hoary cress.

Aceria drabae, a mite, was chosen as a potential biological control agent to combat hoary cress due to its very narrow host range and impact on its host, and since the mite is relatively widespread in Europe, it should adapt to varying environmental conditions in North America. The applicant's purpose for releasing A. drabae is to reduce the severity of infestations of invasive hoary cress in the contiguous United States.

The Animal and Plant Health Inspection Service's (APHIS') review and analysis of the potential environmental impacts associated with the proposed release are documented in detail in an environmental assessment (EA) entitled “Field release of the gall mite, Aceria drabae (Acari: Eriophyidae), for classical biological control of hoary cress (Lepidium draba L., Lepidium chalapense L., and Lepidium appelianum Al-Shehbaz) (Brassicaceae), in the contiguous United States” (September 2017). We are making the EA available to the public for review and comment. We will consider all comments that we receive on or before the date listed under the heading DATES at the beginning of this notice.

The EA may be viewed on the Regulations.gov Web site or in our reading room (see ADDRESSES above for a link to Regulations.gov and information on the location and hours of the reading room). You may also request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 29th day of November 2017.
Kevin Shea,
Administrator, Animal and Plant Health Inspection Service.

[FR Doc. 2017-26154 Filed 12-4-17; 8:45 am]

BILLING CODE 3410-34-P